DEPARTMENT OF TRANSPORTATION

Federal Aviation Administration

[Docket No: FAA-2011-0786]

Deadline for Notification of Intent To Use the Airport Improvement Program (AIP) Primary, Cargo, and Nonprimary Entitlement Funds for Fiscal Year 2015

AGENCY: Federal Aviation Administration, DOT.

ACTION: Notice.

SUMMARY: The Federal Aviation Administration (FAA) announces May 1, 2015, as the deadline for each airport sponsor to notify the FAA whether or not it will use its fiscal year 2015 entitlement funds available under Section 47114 of Title 49, United States Code, to accomplish Airport Improvement Program (AIP)-eligible projects that the sponsor previously identified through the Airports Capital Improvement Plan (ACIP) process during the preceding year.

The sponsor's notification must address all entitlement funds apportioned for fiscal year 2015, as well as any entitlement funds not obligated from prior years. After Thursday, July 2, 2015, the FAA will carry over all remaining entitlement funds, and the funds will not be available again until at least the beginning of fiscal year 2016. This notification requirement does not apply to non-primary airports covered by the block-grant program.

FOR FURTHER INFORMATION CONTACT: Mr. Frank J. San Martin, Manager, Airports Financial Assistance Division, APP-500, on (202) 267-3831.

SUPPLEMENTARY INFORMATION: Title 49 of the United States Code, section 47105(f), provides that the sponsor of each airport to which funds are apportioned shall notify the Secretary by such time and in a form as prescribed by the Secretary, of the sponsor's intent to apply for its apportioned funds, also called entitlement funds. Therefore, the FAA is hereby notifying sponsors about steps required to ensure that the FAA has sufficient time to carryover and convert remaining entitlement funds, due to processes required under federal laws. This notice applies only to those airports that have had entitlement funds apportioned to them, except those nonprimary airports located in designated Block Grant States. Sponsors intending to apply for any of their available entitlement funds, including those unused from prior years, shall submit by 12 p.m. prevailing local time on Friday, May 1, 2015, a written indication to the designated Airports District Office (or Regional Office in regions without Airports District Offices) their intent to submit a grant application no later than close of business Thursday, July 2, 2015, to use their fiscal year 2015 entitlement funds available under Title 49 of the United States Code, section 47114. This notice must address all entitlement funds apportioned for fiscal year 2015 including those entitlement funds not obligated from prior years. By Friday, June 5, 2015, airport sponsors that have not yet submitted a final application to the FAA, should notify the FAA of any issues with meeting the final application deadline of Thursday July 2, 2015. Absent notification from the sponsor by the May 1 deadline and/or subsequent notification by the June 5 deadline of any issues with meeting the application deadline, the FAA will proceed after Thursday, July 2, 2015 to take action to carry over all remaining entitlement funds without further notice. The funds will not be available again until at least the beginning of fiscal year 2016.

This notice is promulgated to expedite and facilitate the grant-making process.

The AIP grant program is operating under the requirements of Public Law 112-91, the “FAA Modernization and Reform Act of 2012,” enacted on February 14, 2012, which authorizes the FAA through September 30, 2015 and the “Consolidated and Further Continuing Appropriations Act, 2015” which appropriates FY 2015 funds for the AIP.

Issued in Washington, DC, on January 20, 2015.
Elliott Black,
Director, Office of Airport Planning and Programming.

[FR Doc. 2015-01318 Filed 1-23-15; 8:45 am]

BILLING CODE 4910-13-P